DEPARTMENT OF TRANSPORTATION

Office of the Secretary

[Docket No. DOT-OST-2019-0097]

Privacy Act of 1974; Department of Transportation, Federal Aviation Administration; DOT/FAA 854, Small Unmanned Aircraft Systems (sUAS) Waivers and Authorizations

AGENCY: Federal Aviation Administration, Department of Transportation.

ACTION: Notice of a modified System of Records.

SUMMARY: In accordance with the Privacy Act of 1974, the United States Department of Transportation proposes to rename, update, and reissue a Department of Transportation (DOT) system of records titled, “Department of Transportation Federal Aviation Administration; DOT/FAA 854, Requests for Waivers and Authorizations Under 14 CFR part 107.” This system of records allows the Federal Aviation Administration (FAA) to collect and maintain records on individuals operating small unmanned aircraft systems (hereinafter “sUAS”) who request and receive authorizations to fly their sUAS in controlled airspace, or waivers to fly their sUAS outside of the requirements of the Code of Federal Regulations. This updated system, Small Unmanned Aircraft Systems (sUAS) Waivers and Authorizations, will be included in the Department of Transportation's inventory of record systems.

DATES: Written comments should be submitted on or before August 7, 2019. The Department may publish an amended Systems of Records Notice in light of any comments received. This new system will be effective immediately and the modified routine use effective August 7, 2019.

ADDRESSES: You may submit comments, identified by docket number DOT-OST-2019-0097 by any of the following methods:

• Federal e-Rulemaking Portal: http://www.regulations.gov. Follow the instructions for submitting comments.

• Mail: Docket Management Facility, U.S. Department of Transportation, 1200 New Jersey Ave. SE, West Building Ground Floor, Room W12-140, Washington, DC 20590-0001.

• Hand Delivery or Courier: West Building Ground Floor, Room W12-140, 1200 New Jersey Ave. SE, between 9 a.m. and 5 p.m. ET, Monday through Friday, except Federal Holidays.

• Fax: (202) 493-2251. Instructions: You must include the agency name and docket number DOT-OST-2019-0097. All comments received will be posted without change to http://www.regulations.gov, including any personal information provided.

Privacy Act: Anyone is able to search the electronic form of all comments received in any of our dockets by the name of the individual submitting the comment (or signing the comment, if submitted on behalf of an association, business, labor union, etc.). You may review the Department of Transportation's complete Privacy Act statement in the Federal Register published on April 11, 2000 (65 FR 19477-78), or you may visit http://DocketsInfo.dot.gov. Docket: For access to the docket to read background documents or comments received, go to http://www.regulations.gov or to the street address listed above. Follow the online instructions for accessing the docket.

FOR FURTHER INFORMATION CONTACT: For questions, please contact: Claire W. Barrett, Departmental Chief Privacy Officer, Privacy Office, Department of Transportation, Washington, DC 20590; privacy@dot.gov; or 202.366.8135.

SUPPLEMENTARY INFORMATION: Under current law, persons flying sUAS under the provisions of 14 CFR part 107 or flying sUAS in limited recreational operations pursuant to 49 U.S.C. 44809(a) may not operate sUAS in Class B, Class C, or Class D airspace or within the lateral boundaries of the surface area of Class E airspace designated for an airport unless the person has received authorization to operate from the FAA. sUAS operators under part 107, who are also referred to as remote pilots in command, may request waivers of operational rules applicable to sUAS requirements maintaining visual line of sight and yielding right of way to manned aircraft, as well as prohibitions on operations over people and in certain airspace pursuant to part 107.

The FAA is revising SORN 854 because in 2018, Congress passed the FAA Reauthorization Act of 2018, which enacted 49 U.S.C. 44809(a) requiring authorizations for limited recreational operators flying sUAS in controlled airspace. Before the enactment of § 44809(a), SORN 854 covered only sUAS operators who operated under 14 CFR part 107. At that time, only Part 107 operators could submit requests for authorization, as limited recreational operators as defined under previous law were not required to receive authorizations before flying in controlled airspace. Now, both types of operators (Part 107 and § 44809(a)) are required to request and receive such authorizations.

Additionally, the FAA is updating the SORN to account for two new systems through which sUAS operators can request for waivers and/or authorizations. The first is a new web-based system, which has replaced previous paper forms. Using this web-based system, sUAS operators who determine to seek a waiver or an authorization may request such by electronically completing a form on the FAA website. After reviewing the information the applicant provides, the FAA will determine whether it can assure safety in the national airspace when granting the waiver or authorization; often, such grants will include provisions to which the requester must adhere, to mitigate the risk associated with the waiver or authorization.

Operators may now also request authorizations through third parties qualified to offer services by the FAA under the Low Altitude Authorization and Notification Capability (hereinafter “LAANC”). These third parties, called UAS Service Suppliers (hereinafter “USS”), enter into agreements with the FAA to automate and expedite the process by which sUAS operators receive authorization to fly in the aforementioned airspace from the FAA. The USS develop applications that enable operators to submit requests for authorization to the FAA where the requests are evaluated against pre-determined criteria contained in LAANC. This enables operators to obtain authorizations quickly and efficiently to operate in Class B, C, D, and lateral boundaries of surface area E airspace designated for an airport. The number of USS available to the public and the locations where LAANC is available is updated on the FAA website.

The following sections of this system of records notice have been updated: System name; authority; purpose; categories of records; record source; routine uses; storage; retention and disposal; and safeguards.

I. Background

In accordance with the Privacy Act of 1974, 5 U.S.C. 552a, the Department of Transportation (DOT)/Federal Aviation Administration (FAA) proposes to rename, update, and reissue a DOT system of records titled, “DOT/FAA 854 Requests for Waivers and Authorizations Under 14 CFR part 107.” This update results from the recently-passed FAA Reauthorization Act of 2018, which enacts 49 U.S.C. 44809(a). Specifically, sUAS operators who meet the requirements established in § 44809(a) are now required to request and receive authorization from the FAA before flying their sUAS in controlled airspace. Prior to this legislation, only sUAS operators who operated in accordance with FAA regulations at 14 CFR part 107 were required to request and receive these authorizations. Accordingly, the previous iteration of this SORN applied only to individuals operating their sUAS in accordance with Part 107. This update expands the SORN's scope to cover individuals operating their sUAS in accordance with 49 U.S.C. 44809(a). Additionally, the SORN is updated to reflect new automated methods for requesting and receiving waivers and authorizations.

Specifically, this update includes changes to the following sections: System name; authority; purpose; categories of records; record source; routine uses; storage; retention and disposal; and safeguards.

• The scope of this system of records has expanded to include records on sUAS operators who operate § 44809(a); accordingly, we are proposing to update the notice's name to “Small Unmanned Aircraft Systems (sUAS) Waivers and Authorizations.”

• The authorities section has likewise been updated to include 49 U.S.C. 44809(a) to reflect the new legal authority requiring limited recreational operators to request authorizations.

• The purpose section has also been updated to encompass individuals operating their sUAS in accordance with § 44809(a); however, the purpose for collecting information for all categories of individuals otherwise remains the same.

• The records category section has been updated to reflect additional categories of information collected by the automated system for processing authorizations. Specifically, the following additional information will be collected by this automated system: Specification of proposed sUAS operations; sUAS flight plan information (including geometry); airspace class(es); submission reference codes; and safety justifications for non-auto-authorized operations.

• The records source section has been updated to reflect that records are obtained on behalf of individuals from the USS, to include new automated methods for requesting and receiving authorizations.

• The routine use section has been updated. Specifically, a system-specific routine use allowing the sharing of information to law enforcement has been eliminated, as the FAA determined that it is duplicative of a departmental routine use. Further, a system-specific routine use has been added to allow the FAA to share waiver and authorization information with the NTSB in connection with its investigative responsibilities. These two changes to the routine use section are further addressed below in section 1.B.

• Finally, OMB Circular A-108 recommends that agencies include all routine uses in one notice rather than incorporating general routine uses by reference; therefore, FAA is replacing the routine use that referenced the “Statement of General Routine Uses” with all of the general routine uses that apply to this system. This is merely a technical change and does not substantially affect any of the routine uses for records of this system.

• The storage, retention and disposal, and safeguard sections has been updated remove the reference to 14 CFR part 107, therefore reflecting the expansion in scope of the system of records to incorporate records on sUAS operators who request waiver under 14 CFR part 107 and those who request authorizations under both 14 CFR part 107 and 49 U.S.C. 44809(a). Previously, these sections referred only to 14 CFR part 107.

• Additionally, this notice includes non-substantive changes to simplify and clarify the language, formatting, and text of the previously published notice to align with the requirements of Office of Management and Budget Memoranda A-108, and for consistency with other departmental system of records notices.

A. Description of Records

The FAA's regulations at 14 CFR part 107 governing operation of sUAS permits operators to apply for certificates of waiver to allow a sUAS operation to deviate from certain provisions of 14 CFR part 107 if the FAA Administrator finds the operator can safely conduct the proposed operation under the terms of a certificate of waiver. Operators flying under 14 CFR part 107 or flying limited recreational operations under 49 U.S.C. 44809(a) may request authorizations to enter controlled airspace (Class B, Class C, or Class D airspace, or within the lateral boundaries of the surface area of Class E airspace designated for an airport). The FAA assesses requests for waivers on a case-specific basis that considers the proposed sUAS operation, the unique operating environment, and the safety mitigations provided by that operating environment. Accordingly, this SORN covers documents relevant to both waivers of certain provisions of part 107 as well as authorizations to fly in controlled airspace.

1. Waivers

To obtain a certificate of waiver, an applicant must submit a request containing a complete description of the proposed operation and a justification, including supporting data and documentation as necessary, to establish the proposed operation can safely be conducted under the terms of the requested certificate of waiver. The FAA expects that the time and effort the operator will put into the analysis and data collection for the waiver application will be proportional to the specific relief requested. Similarly, the FAA anticipates that the time required for it to make a determination regarding waiver requests will vary based on the complexity of the request. For example, a request for a major deviation from part 107 for an operation that takes place in a congested metropolitan area with heavy air traffic will likely require significantly more data and analysis than a request for a minor deviation for an operation that takes place in a sparsely populated area with minimal air traffic. If a certificate of waiver is granted, that certificate may include additional conditions and limitations designed to ensure that the sUAS operation can be conducted safely. The certificate-of-waiver process will allow the FAA to assess case-specific information concerning a sUAS operation that takes place in a unique operating environment and consider allowing additional operating flexibility that recognizes safety mitigations provided by the specific operating environment. The FAA anticipates that this process will also serve as a bridging mechanism for new and emerging technologies; allowing the FAA to permit testing and use of those technologies, as appropriate, before the pertinent future rulemaking is complete.

Information collected relevant to waivers include: Name of person requesting the waiver, contact information for person applying for the waiver (telephone number, mailing address, and email address); Remote pilot in command name; remote pilot in command's airmen certification number and rating; remote pilot in command contact information; aircraft registration number; aircraft manufacturer name and model; submission reference code; regulations subject to waiver; requested date and time operations will commence and conclude under the waiver; flight path information, including but not limited to altitude and coordinates; safety justification; description of proposed operations.

2. Airspace Authorizations

For airspace authorization requests to operate a sUAS in Class B, Class C, Class D or within the lateral boundaries of the surface area of Class E airspace designated for an airport, a remote pilot in command may seek either automatic approval or a request for further coordination from the FAA. Automatic approvals are completed by checking against pre-determined FAA-approved altitude values and locations within the aforementioned airspace. Requests sent through the FAA website are manually checked against the pre-determined values to either approve or deny the request. As this method requires manual approval and is not scalable to the numbers of requests for authorization, time for the sUAS operator to receive a response is variable and can take up to 90 days or more. Requests sent through LAANC are done through an automated process and operators receive near real time notice of either an approval or denial of the authorization request. Requests for further coordination are those authorization requests for operations that are within the aforementioned airspace and under 400 feet of altitude, but otherwise are a location and altitude that has not been pre-determined by the FAA to be safe without further consideration. These requests for further coordination are sent via either the FAA website or through LAANC and routed to the local Air Traffic Control facility where the requested operation would take place to make an approval (or denial) decision. The appropriate ATC facility has the best understanding of local airspace, its usage, and traffic patterns and is in the best position to ascertain whether the proposed sUAS operation would pose a hazard to other users or the efficiency of the airspace, and procedures to implement to mitigate such hazards. The ATC facility has the authority to approve or deny aircraft operations based on traffic density, controller workload, communications issues, or any other type of operational issues that could potentially impact the safe and efficient flow of air traffic in that airspace. If necessary to approve a sUAS operation, ATC may require mitigations such as altitude constraints and direct communication. ATC may deny requests that pose an unacceptable risk to the national airspace system (NAS) and cannot be mitigated.

Information collected relevant to airspace authorizations requested using the non-automated method include: Aircraft operator name; aircraft owner name; name of person requesting the authorization; contact information for the person applying for the authorization; remote pilot in command name; remote pilot in command contact information; remote pilot in command certificate number; aircraft manufacturer name and model; aircraft registration number; requested date and time operations will commence and conclude; requested altitude applicable to the authorization; and description of proposed operations.

Information collected relevant to airspace authorizations requested using the automated method (LAANC) include: Name of pilot in command; contact telephone number of remote pilot in command; start date, time, and duration of operation; maximum altitude; geometry; airspace class(es); submission reference code; safety justification for non-auto-authorized operation; and aircraft registration number.

B. System of Records

As described below in the Routine Uses section of this notice, the FAA will make the following information available to the public on an FAA website: Waiver applications and decisions, including any history of previous, pending, existing, or denied requests for waivers applicable to the sUAS at issue for purposes of the waiver, and special provisions applicable to the sUAS operation that is the subject of the request. Such availability is compatible with the purposes of this system because this system is intended, in part, to educate sUAS operators who seek to apply for a waiver, as operators will be able to review prior grants of waivers and the accompanying special provisions in their efforts to replicate successful waiver applications. The FAA does not plan to post records relevant to airspace authorizations on its website because airspace authorizations are unique to each operation. Each airspace authorization is specific to the location and time of the planned operation; therefore, posting of airspace authorizations would not prove advantageous to prospective applicants.

Finally, this system of records notice has been updated to include a new routine use to allow disclosure of records to the National Transportation Safety Board (NTSB) in connection with its investigative responsibilities. Such disclosure is compatible with the purposes of this system because this system is intended, in part, to provide for safety of the NAS. The NTSB may require these records in the event that an sUAS is involved in an aircraft accident requiring NTSB investigation. Disclosure of these records to NTSB for this purpose ensures NTSB's ability to fully investigate such accidents and therefore maintain safety of the NAS.

II. Privacy Act

The Privacy Act (5 U.S.C. 552a) governs the means by which the Federal Government collects, maintains, and uses personally identifiable information (PII) in a System of Records. A “System of Records” is a group of any records under the control of a Federal agency from which information about individuals is retrieved by name or other personal identifier. The Privacy Act requires each agency to publish in the Federal Register a System of Records notice (SORN) identifying and describing each System of Records the agency maintains, including the purposes for which the agency uses PII in the system, the routine uses for which the agency discloses such information outside the agency, and how individuals to whom a Privacy Act record pertains can exercise their rights under the Privacy Act (e.g., to determine if the system contains information about them and to contest inaccurate information). In accordance with 5 U.S.C. 552a(r), DOT has provided a report of this system of records to the Office of Management and Budget and to Congress.

System Name and Number

DOT/FAA—854 Small Unmanned Aircraft Systems (sUAS) Waivers and Authorizations.

SECURITY CLASSIFICATION:

Unclassified.

SYSTEM LOCATION:

For waivers, the system will be located in the Commercial Operations Branch, Flight Standards Service (AFS- 820), Federal Aviation Administration, 800 Independence Avenue SW, Washington, DC 20024. For airspace authorizations, the system will be located in the Emerging Technologies Team (AJV-115), Air Traffic Organization, Federal Aviation Administration, 800 Independence Avenue SW, Washington, DC 20024.

SYSTEM MANAGER(S) AND ADDRESS:

For waivers: Manager, Commercial Operations Branch, Flight Standards Service (AFS-820), Federal Aviation Administration, 800 Independence Avenue SW, Washington, DC 20024. For airspace authorizations: Manager, UAS Tactical Operations Section, Air Traffic Organization, Federal Aviation Administration, 800 Independence Avenue SW, Washington, DC 20024.

AUTHORITY FOR MAINTENANCE OF THE SYSTEM:

49 U.S.C. 106(g), Duties and powers of Administrator; 49 U.S.C. 40101, Policy; 49 U.S.C. 40103, Sovereignty and use of airspace; 49 U.S.C. 40106, Emergency powers; 49 U.S.C. 40113, Administrative; 49 U.S.C. 44701, General requirements; FAA Modernization and Reform Act of 2012, Public Law 112-95 (“FMRA”) § 333, Special Rules for Certain Unmanned Aircraft Systems; 14 CFR part 107, subpart D, “Waivers”; 14 CFR 107.41, “Operation in certain airspace”; and 49 U.S.C. 44809(a).

PURPOSE(S):

The purpose of this system is to receive, evaluate, and respond to requests for authorization to operate a sUAS in Class B, C, or D airspace or within the lateral boundaries of the surface area of Class E airspace designated for an airport, and evaluate requests for a certificate of waiver to deviate safely from one or more sUAS operational requirements specified in 14 CFR part 107. The FAA also will use this system to support FAA safety programs and agency management, including safety studies and assessments. The FAA may use contact information provided with requests for waiver or authorization to provide sUAS owners and operators' information about potential unsafe conditions and educate sUAS owners and operators regarding safety requirements for operation. The FAA also will use this system to maintain oversight of FAA issued waiver or authorizations and records from this system may be used by FAA for enforcement purposes.

CATEGORIES OF INDIVIDUALS COVERED BY THE SYSTEM:

Aircraft operators, aircraft owners, persons requesting a waiver or authorization.

CATEGORIES OF RECORDS IN THE SYSTEM:

Aircraft operator name; Aircraft owner name; Name of person requesting a waiver or authorization; Contact information for person applying for waiver or authorization: Mailing address, telephone number, and email address of person submitting application for waiver or authorization; Responses to inquiries concerning the applicant's previous and current waivers; Remote pilot in command name; Airmen Certification Number (in those individuals certificated under another program prior to 2013 and have not requested a change of certificate number the airmen certificate number may be the individual's Social Security Number); Contact information for remote pilot in command: Address and telephone number; Remote pilot in command certificate number; Aircraft manufacturer name and model; Aircraft registration number; Regulations subject to waiver or authorization; Requested date and time operations will commence and conclude under waiver or authorization; Flight path information, including but not limited to the requested altitude and coordinates of the applicable to the waiver or authorization; Description of proposed operations; specifications; Geometry (center point with radius or Geo/JSON polygon); airspace class(s); Submission reference code; Safety justification for non-auto-authorized operations.

RECORD SOURCE CATEGORIES:

Records are obtained from individuals, manufacturers of aircraft, maintenance inspectors, mechanics, and FAA officials. Records are also obtained on behalf of individuals through UAS Service Suppliers.

ROUTINE USES OF RECORDS MAINTAINED IN THE SYSTEM, INCLUDING CATEGORIES OF USERS AND THE PURPOSES OF SUCH USES:

In addition to other disclosures generally permitted under 5 U.S.C. 552a(b) of the Privacy Act, all or a portion of the records or information contained in this system may be disclosed outside DOT as a routine use pursuant to 5 U.S.C. 552a(b)(3) as follows:

SYSTEM SPECIFIC ROUTINE USES:

1. To the public, waiver applications and decisions, including any history of previous, pending, existing, or denied requests for waivers applicable to the sUAS at issue for purposes of the waiver, and special provisions applicable to the sUAS operation that is the subject of the request. Email addresses and telephone numbers will not be disclosed pursuant to this Routine Use. Airspace authorizations the FAA issues also will not be disclosed pursuant to this Routine Use, except to the extent that an airspace authorization is listed or summarized in the terms of a waiver.

2. To law enforcement, when necessary and relevant to a FAA enforcement activity.

3. Disclose information to the National Transportation Safety Board (NTSB) in connection with its investigation responsibilities.

Departmental Routine Uses:

4. In the event that a system of records maintained by DOT to carry out its functions indicates a violation or potential violation of law, whether civil, criminal or regulatory in nature, and whether arising by general statute or particular program pursuant thereto, the relevant records in the system of records may be referred, as a routine use, to the appropriate agency, whether Federal, State, local or foreign, charged with the responsibility of investigating or prosecuting such violation or charged with enforcing or implementing the statute, or rule, regulation, or order issued pursuant thereto.

5. A record from this system of records may be disclosed, as a routine use, to a Federal, State, or local agency maintaining civil, criminal, or other relevant enforcement information or other pertinent information, such as current licenses, if necessary to obtain information relevant to a DOT decision concerning the hiring or retention of an employee, the issuance of a security clearance, the letting of a contract, or the issuance of a license, grant or other benefit.

6. A record from this system of records may be disclosed, as a routine use, to a federal agency, in response to its request, in connection with the hiring or retention of an employee, the issuance of a security clearance, the reporting of an investigation of an employee, the letting of a contract, or the issuance of a license, grant, or other benefit by the requesting agency, to the extent that the information is relevant and necessary to the requesting agency's decision on the matter.

7. Routine Use for Disclosure for Use in Litigation. It shall be a routine use of the records in this system of records to disclose them to the Department of Justice or other Federal agency conducting litigation when (a) DOT, or any agency thereof, or (b) Any employee of DOT or any agency thereof (including a member of the Coast Guard), in his/her official capacity, or (c) Any employee of DOT or any agency thereof (including a member of the Coast Guard), in his/her individual capacity where the Department of Justice has agreed to represent the employee, or (d) The United States or any agency thereof, where DOT determines that litigation is likely to affect the United States, is a party to litigation or has an interest in such litigation, and the use of such records by the Department of Justice or other Federal agency conducting the litigation is deemed by DOT to be relevant and necessary in the litigation, provided, however, that in each case, DOT determines that disclosure of the records in the litigation is a use of the information contained in the records that is compatible with the purpose for which the records were collected. 6b. Routine Use for Agency Disclosure in Other Proceedings. It shall be a routine use of records in this system to disclose them in proceedings before any court or adjudicative or administrative body before which DOT or any agency thereof, appears, when (a) DOT, or any agency thereof, or (b) Any employee of DOT or any agency thereof (including a member of the Coast Guard) in his/her official capacity, or (c) Any employee of DOT or any agency thereof (including a member of the Coast Guard) in his/her individual capacity where DOT has agreed to represent the employee, or (d) The United States or any agency thereof, where DOT determines that the proceeding is likely to affect the United States, is a party to the proceeding or has an interest in such proceeding, and DOT determines that use of such records is relevant and necessary in the proceeding, provided, however, that in each case, DOT determines that disclosure of the records in the proceeding is a use of the information contained in the records that is compatible with the purpose for which the records were collected.

8. The information contained in this system of records will be disclosed to the Office of Management and Budget, OMB in connection with the review of private relief legislation as set forth in OMB Circular No. A-19 at any stage of the legislative coordination and clearance process as set forth in that Circular.

9. One or more records from a system of records may be disclosed routinely to the National Archives and Records Administration in records management inspections being conducted under the authority of 44 U.S.C. 2904 and 2906.

10. DOT may make available to another agency or instrumentality of any government jurisdiction, including State and local governments, listings of names from any system of records in DOT for use in law enforcement activities, either civil or criminal, or to expose fraudulent claims, regardless of the stated purpose for the collection of the information in the system of records. These enforcement activities are generally referred to as matching programs because two lists of names are checked for match using automated assistance. This routine use is advisory in nature and does not offer unrestricted access to systems of records for such law enforcement and related antifraud activities. Each request will be considered on the basis of its purpose, merits, cost effectiveness and alternatives using Instructions on reporting computer matching programs to the Office of Management and Budget, OMB, Congress and the public, published by the Director, OMB, dated September 20, 1989.

11. DOT may disclose records from this system, as a routine use to appropriate agencies, entities and persons when (1) DOT suspects or has confirmed that the security or confidentiality of information in the system of records has been compromised; (2) DOT has determined that as a result of the suspected or confirmed compromise there is a risk of harm to economic or property interests, identity theft or fraud, or harm to the security or integrity of this system or other systems or programs (whether maintained by DOT or another agency or entity) that rely upon the, compromised information; and (3) the disclosure made to such agencies, entities, and persons is reasonably necessary to assist in connection with DOT's efforts to respond to the suspected or confirmed compromise and prevent, minimize, or remedy such harm.

12. DOT may disclose records from this system, as a routine use, to the Office of Government Information Services for the purpose of (a) resolving disputes between FOIA requesters and Federal agencies and (b) reviewing agencies' policies, procedures, and compliance in order to recommend policy changes to Congress and the President.

13. DOT may disclose records from this system, as a routine use, to contractors and their agents, experts, consultants, and others performing or working on a contract, service, cooperative agreement, or other assignment for DOT, when necessary to accomplish an agency function related to this system of records.

14. DOT may disclose records from this system, as a routine use, to an agency, organization, or individual for the purpose of performing audit or oversight operations related to this system of records, but only such records as are necessary and relevant to the audit or oversight activity. This routine use does not apply to intra-agency sharing authorized under Section (b)(1), of the Privacy Act.

15. DOT may disclose from this system, as a routine use, records consisting of, or relating to, terrorism information (6 U.S.C. 485(a)(5)), homeland security information (6 U.S.C. 482(f)(1)), or Law enforcement information (Guideline 2 Report attached to White House Memorandum, “Information Sharing Environment, November 22, 2006) to a Federal, State, local, tribal, territorial, foreign government and/or multinational agency, either in response to its request or upon the initiative of the Component, for purposes of sharing such information as is necessary and relevant for the agencies to detect, prevent, disrupt, preempt, and mitigate the effects of terrorist activities against the territory, people, and interests of the United States of America, as contemplated by the Intelligence Reform and Terrorism Prevention Act of 2004, (Pub. L. 108-458) and Executive Order, 13388 (October 25, 2005).

POLICIES AND PRACTICES FOR STORAGE OF RECORDS:

Individual records relevant to both waivers and airspace authorizations are maintained in an electronic database system.

POLICIES AND PRACTICES FOR RETRIEVAL OF RECORDS:

Records of applications for waivers and authorizations in the electronic database system may be retrieved by sUAS registration number, the manufacturer's name and model, the name of the current registered owner and/or organization, the name of the remote pilot in command, the airmen certification number, the name of the applicant and/or organization that submitted the request for waiver or authorization, the special provisions (if any) to which the FAA and the applicant agreed for purposes of the waiver or authorization, and the location and altitude, class of airspace and area of operations that is the subject of the request. Records may also be sorted by regulation section that is the subject of the request for waiver or authorization.

POLICIES AND PRACTICES FOR RETENTION AND DISPOSAL OF RECORDS:

The FAA will retain records in this system of records, which covers both waivers and airspace authorizations, as permanent government records until it receives record disposition authority from the National Archives and Records Administration (NARA), pursuant to 36 CFR 1225.16 and 1225.18. The FAA has requested from NARA authority to dispose of waiver and authorization records after two years following the expiration of the waiver or authorization.

ADMINISTRATIVE, TECHNICAL, AND PHYSICAL SAFEGUARDS:

Records in this system for waivers and airspace authorizations are safeguarded in accordance with applicable rules and policies, including all applicable DOT automated systems security and access policies. Strict controls have been imposed to minimize the risk of compromising the information that is being stored. Access to the computer system containing the records in this system is limited to individuals who have a need to know the information for the performance of their official duties and who have appropriate clearances or permissions.

RECORD ACCESS PROCEDURES:

Individuals seeking notification of whether this system of records contains information about them may contact the System Manager at the address provided in the section “System manager.” When seeking records about yourself from this system of records or any other Departmental system of records your request must conform with the Privacy Act regulations set forth in 49 CFR part 10. You must sign your request, and your signature must either be notarized or submitted under 28 U.S.C. 1746, a law that permits statements to be made under penalty of perjury as a substitute for notarization. If your request is seeking records pertaining to another living individual, you must include a statement from that individual certifying his/her agreement for you to access his/her records.

CONTESTING RECORDS PROCEDURE:

See “Record Access Procedures” above.

NOTIFICATION PROCEDURE:

See “Records Access Procedures” above.

EXEMPTIONS PROMULGATED FOR THE SYSTEM:

None.

HISTORY:

A full notice of this system of records, DOT/FAA854 Requests for Waivers and Authorizations under 14 CFR part 107 was published in the Federal Register on August 2, 2016, (81 FR 50789).

Issued in Washington, DC, on July 2, 2019.
Stephen H. Holden,
Associate CIO for IT Policy and Oversight, Department of Transportation.

[FR Doc. 2019-14449 Filed 7-5-19; 8:45 am]

BILLING CODE 4910-9X-P